DEPARTMENT OF COMMERCE

International Trade Administration

[A-351-602, A-588-602, A-583-605, A-549-807, A-570-814]

Carbon Steel Butt-Weld Pipe Fittings From Brazil, Japan, Taiwan, Thailand, and the People's Republic of China: Continuation of Antidumping Duty Orders

AGENCY: Enforcement and Compliance, International Trade Administration, Department of Commerce.

SUMMARY: As a result of the determinations by the Department of Commerce (Department) and the International Trade Commission (ITC) that revocation of the antidumping duty (AD) orders on carbon butt-weld pipe fittings (BWPF) from Brazil, Japan, Taiwan, Thailand, and the People's Republic of China (PRC) would likely lead to a continuation or recurrence of dumping and material injury to an industry in the United States, the Department is publishing a notice of continuation of the antidumping duty orders.

DATES: Effective August 23, 2016.

FOR FURTHER INFORMATION CONTACT: Matthew Renkey, AD/CVD Operations, Enforcement and Compliance, International Trade Administration, U.S. Department of Commerce, 14th Street and Constitution Avenue NW., Washington, DC 20230; telephone: (202) 482-2312.

SUPPLEMENTARY INFORMATION:

Background

On March 1, 2016, the Department published the notice of initiation of the fourth sunset reviews of the antidumping duty orders on BWPF from Brazil, Japan, Taiwan, Thailand, and the PRC, pursuant to section 751(c) of the Tariff Act of 1930, as amended (the Act).¹ As a result of its review, the Department determined that revocation of the AD orders would likely lead to a continuation or recurrence of dumping.² The Department, therefore, notified the ITC of the magnitude of the margins likely to prevail should the AD orders be revoked. On August 8, 2016, the ITC published notice of its determination, pursuant to section 751(c) of the Act, that revocation of the AD orders on BWPF from Brazil, Japan, Taiwan, Thailand, and the PRC would likely lead to a continuation or recurrence of material injury to an industry in the United States within a reasonably foreseeable time.³

¹ See Initiation of Five-Year (”Sunset”) Reviews, 81 FR 10578 (March 1, 2016).

² See Carbon Steel Butt-Weld Pipe Fittings from Brazil, Japan, Taiwan, Thailand, and the People's Republic of China: Final Results of the Expedited Sunset Reviews of the Antidumping Duty Orders, 81 FR 44270 (July 7, 2016) (Final Results).

³ See Carbon Steel Butt-Weld Pipe Fittings from Brazil, China, Japan, Taiwan, and Thailand: Investigation Nos. 731-TA-308-310 and 520-521 (Fourth Review), USITC Publication 4628 (August 2016); see also Carbon Steel Butt-Weld Pipe Fittings from Brazil, China, Japan, Taiwan, and Thailand; Determination, 81 FR 52460 (August 8, 2016).

Scope of the Orders

The merchandise covered by the orders consists of certain carbon steel butt-weld type fittings, other than couplings, under 14 inches in diameter, whether finished or unfinished. These imports are currently classified under subheading 7307.93.30 of the Harmonized Tariff Schedule of the United States (HTSUS). The HTSUS subheading is provided for convenience and customs purposes. The written product description remains dispositive.⁴

⁴ For a full description of the scope of the orders, see the Final Results and accompanying memorandum to Paul Piquado, Assistant Secretary for Enforcement and Compliance, from Christian Marsh, Deputy Assistant Secretary for Antidumping and Countervailing Duty Operations, “Issues and Decision Memorandum for the Expedited Sunset Reviews of the Antidumping Duty Orders on Carbon Steel Butt-Weld Pipe Fittings from Brazil, Japan, Taiwan, Thailand, and the People's Republic of China,” dated June 28, 2016. The scope language varies slightly amongst the countries due to the fact the investigations and subsequent orders for the PRC and Thailand occurred after the investigations for the other three countries. Additionally, the scope language for Taiwan includes a reference to a scope decision.

Continuation of the Orders

As a result of the determinations by the Department and the ITC that revocation of the AD orders would likely lead to a continuation or recurrence of dumping and material injury to an industry in the United States, pursuant to section 751(d)(2) of the Act and 19 CFR 351.218(a), the Department hereby orders the continuation of the AD orders on BWPF from Brazil, Japan, Taiwan, Thailand, and the PRC. U.S. Customs and Border Protection will continue to collect AD cash deposits at the rates in effect at the time of entry for all imports of subject merchandise.

The effective date of the continuation of the orders will be the date of publication in the Federal Register of this notice of continuation. Pursuant to section 751(c)(2) of the Act, the Department intends to initiate the next five-year review of the orders not later than 30 days prior to the fifth anniversary of the effective date of continuation.

This five-year sunset review and this notice are in accordance with section 751(c) of the Act and published pursuant to section 777(i)(1) of the Act and 19 CFR 351.218(f)(4).

Dated: August 15, 2016.
Paul Piquado,
Assistant Secretary for Enforcement and Compliance.

[FR Doc. 2016-20174 Filed 8-22-16; 8:45 am]

BILLING CODE 3510-DS-P